DEPARTMENT OF ENERGY

President's Council of Advisors on Science and Technology (PCAST)

AGENCY: Office of Science, Department of Energy.

ACTION: Notice of partially-closed virtual meeting.

SUMMARY: This notice announces a partially-closed meeting of the President's Council of Advisors on Science and Technology (PCAST). Due to the COVID-19 pandemic, this meeting will be held virtually for members of the public and in-person for PCAST members. The Federal Advisory Committee Act (FACA) requires that public notice of these meetings be announced in the Federal Register.

DATES: Thursday, July 28, 2022; 2:30 p.m. to 4 p.m. ET.

ADDRESSES: Information to participate virtually can be found on the PCAST website closer to the meeting at: www.whitehouse.gov/PCAST/meetings.

FOR FURTHER INFORMATION CONTACT: Dr. Sarah Domnitz, Designated Federal Officer, PCAST, email: PCAST@ostp.eop.gov; or telephone: (202) 881-6399.

SUPPLEMENTARY INFORMATION: PCAST is an advisory group of the nation's leading scientists and engineers, appointed by the President to augment the science and technology advice available to him from the White House, cabinet departments, and other Federal agencies. PCAST is consulted on and provides analyses and recommendations concerning a wide range of issues where understanding of science, technology, and innovation may bear on the policy choices before the President. The Designated Federal Officer is Dr. Sarah Domnitz. Information about PCAST can be found at: www.whitehouse.gov/PCAST.

Tentative Agenda

Open Portion of the Meeting: PCAST will hear from invited speakers on and discuss science and innovation activities at the Department of Energy. Additional information and the meeting agenda, including any changes that arise, will be posted on the PCAST website at: www.whitehouse.gov/PCAST/meetings.

Closed Portion of the Meeting: PCAST may hold a closed meeting of approximately one hour with the President on July 28, 2022 or July 29, 2022, which must take place in the White House for scheduling convenience and to maintain Secret Service protection. This meeting will be closed to the public because a portion of the meeting is likely to disclose matters that are to be kept secret in the interest of national defense or foreign policy under 5 U.S.C. 552b(c)(1).

Public Participation: The meeting is open to the public. The meeting will be held virtually for members of the public.

It is the policy of the PCAST to accept written public comments no longer than 10 pages and to accommodate oral public comments whenever possible. The PCAST expects that public statements presented at its meetings will not be repetitive of previously submitted oral or written statements.

The public comment period for this meeting will take place on July 28, 2022, at a time specified in the meeting agenda. This public comment period is designed only for substantive commentary on PCAST's work, not for business marketing purposes.

Oral Comments: To be considered for the public speaker list at the meeting, interested parties should register to speak at PCAST@ostp.eop.gov, no later than 12:00 p.m. Eastern Time on July 21, 2022. To accommodate as many speakers as possible, the time for public comments will be limited to two (2) minutes per person, with a total public comment period of up to 10 minutes. If more speakers register than there is space available on the agenda, PCAST will select speakers on a first-come, first-served basis from those who registered. Those not able to present oral comments may file written comments with the council.

Written Comments: Although written comments are accepted continuously, written comments should be submitted to PCAST@ostp.eop.gov no later than 12:00 p.m. Eastern Time on July 21, 2022, so that the comments can be made available to the PCAST members for their consideration prior to this meeting.

Because PCAST operates under the provisions of FACA, all public comments and/or presentations will be treated as public documents and will be made available for public inspection, including being posted on the PCAST website at: www.whitehouse.gov/PCAST/meetings.

Minutes: Minutes will be available within 45 days at: www.whitehouse.gov/PCAST/meetings.

Signed in Washington, DC, on July 12, 2022.
LaTanya Butler,
Deputy Committee Management Officer.

[FR Doc. 2022-15151 Filed 7-14-22; 8:45 am]

BILLING CODE 6450-01-P